POSTAL RATE COMMISSION

Sunshine Act Meetings

Name of Agency: Postal Rate Commission.

Time and Date: Daily, or as needed, starting after 9:30 a.m., from September 25, 2000, through November 8, 2000.

Place: Commission conference room, 1333 H Street, NW., Suite 300, Washington, DC 20268-0001.

Status: Closed.

Matters to be considered: Recommendations in Docket No. ­R2000-1.

Contact Person for More Information: Stephen L. Sharfman, General Counsel, Postal Rate Commission, Suite 300, 1333 H Street, NW, Washington, DC 20268-0001, 202-789-6820.

Dated: September 19, 2000.
Margaret P. Crenshaw,
Secretary.

[FR Doc. 00-24548 Filed 9-20-00; 12:39 pm]

BILLING CODE 7710-FN-M